DEPARTMENT OF HOMELAND SECURITY

Transportation Security Administration

Extension of Agency Information Collection Activity Under OMB Review: Transportation Security Officer (TSO) Medical Questionnaire

AGENCY: Transportation Security Administration, DHS.

ACTION: 30-day Notice.

SUMMARY: This notice announces that the Transportation Security Administration (TSA) has forwarded the Information Collection Request (ICR), OMB control number 1652-0032, abstracted below to the Office of Management and Budget (OMB) for review and approval of an extension of the currently approved collection under the Paperwork Reduction Act. The ICR describes the nature of the information collection and its expected burden. TSA published a Federal Register notice, with a 60-day comment period soliciting comments, of the following collection of information on December 30, 2011, 76 FR 82313. The collection involves using a questionnaire to collect medical information from candidates for the job of Transportation Security Officer (TSO) to ensure their qualifications to perform TSO duties pursuant to sec. 111 of the Aviation and Transportation Security Act (ATSA).

DATES: Send your comments by April 13, 2012. A comment to OMB is most effective if OMB receives it within 30 days of publication.

ADDRESSES: Interested persons are invited to submit written comments on the proposed information collection to the Office of Information and Regulatory Affairs, Office of Management and Budget. Comments should be addressed to Desk Officer, Department of Homeland Security/TSA, and sent via electronic mail to oira_submission@omb.eop.gov or faxed to (202) 395-6974.

FOR FURTHER INFORMATION CONTACT: Joanna Johnson, TSA Paperwork Reduction Act (PRA) Officer, Office of Information Technology (OIT), TSA-40, Transportation Security Administration, 601 South 12th Street, Arlington, VA 20598-6040; telephone (571) 227-3651; email TSAPRA@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Transportation Security Officer (TSO) Medical Questionnaire.

Type of Request: Extension of a currently approved collection.

OMB Control Number: 1652-0032.

Forms(s): Transportation Security Officer Medical Questionnaire, Cancer Further Evaluation, Cardiac Surgery Further Evaluation, Cardiac Further Evaluation, Diabetes Further Evaluation, Drug or Alcohol Use Further Evaluation, General Medical Further Evaluation, Hearing Further Evaluation, Hepatitis Further Evaluation, Hernia Further Evaluation, HIV Further Evaluation, Orthopedic Further Evaluation, Pacemaker Further Evaluation, Palmar Sensation Further Evaluation, Respiratory Further Evaluation, Seizure Further Evaluation, Tuberculosis Further Evaluation, Vision Further Evaluation, Vital Signs Further Evaluation, and Mental Health Further Evaluation.

Affected Public: Applicants for employment as a Transportation Security Officer with TSA.

Abstract: TSA currently collects relevant medical information from Transportation Security Officer (TSO) candidates for the purpose of assessing whether the candidates meet the medical qualification standards the agency has established pursuant to the Aviation and Transportation Security Act (ATSA) (49 U.S.C. 44935). TSA collects this information through a medical questionnaire completed by TSO candidates and, in certain cases, further evaluation forms completed by TSO candidates' health care providers. The medical questionnaire and further evaluation forms evaluate a candidate's physical and medical qualifications to be a TSO, including visual and aural acuity, physical coordination, and motor skills. Only TSO candidates who successfully complete the hiring process up to the medical evaluation are required to complete the medical questionnaire. Candidates who disclose certain medical conditions on the medical questionnaire may be asked to have their health care provider complete one or more further evaluation forms. Historical data indicate that approximately 30 percent of candidates reaching the medical evaluation will be required to complete one or more further evaluation forms.

TSA has a variety of further evaluation forms, each of which pertain to particular body systems and medical conditions, including cardiac, orthopedic, endocrine, vitals, and others. The type of further evaluation form(s) completed by a candidate's health care provider depend(s) on the condition(s) revealed during a candidate's initial medical evaluation and disclosed on the initial medical questionnaire. For example, a candidate who discloses a previous back injury may be required to have his/her health care provider complete a further evaluation form to enable the agency to better evaluate whether the candidate can perform the TSO job safely and efficiently without excessive risk of accident or injury to himself/herself or others. A TSA contractor facilitates receipt and processing of all forms.

Number of Respondents: There are an estimated total of 26,565 TSO candidates and their respective health care providers, nationwide. This number includes an estimated 14,750 candidates completing the TSO medical questionnaire and an estimated 4,425 candidates (30% of 14,750) required to complete at least one further evaluation form. TSA has estimated that these estimated 4,425 applicants will visit approximately 1.67 health care providers. As such, the 26,565 figure also includes an estimated 7,390 health care providers (4,425 × 1.67) completing further evaluation form(s).

Estimated Annual Burden Hours: After further evaluation, TSA has increased the annual burden estimate published in the notice published on October 26, 2009. The estimated total annual burden for applicants, including applicants required to complete further evaluation forms, and health care providers is 12,912 hours.

Issued in Arlington, Virginia, on March 7, 2012.
Joanna Johnson,
TSA Paperwork Reduction Act Officer, Office of Information Technology.

[FR Doc. 2012-6199 Filed 3-13-12; 8:45 am]

BILLING CODE 9110-05-P